DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board will take place.

DATES:

Monday, August 11, 2014

8:00 a.m.-8:45 a.m. (Preparatory Meeting)

8:45 a.m.-11:45 a.m. (Open Session)

11:45 a.m.-12:45 p.m. (Preparatory Meeting)

12:45 p.m.-5:15 p.m. (Open Session)

Tuesday, August 12, 2014

8:00 a.m.-1:00 p.m. (Preparatory Meeting)

ADDRESSES: Defense Health Headquarters (DHHQ), Pavilion Salons B-C, 7700 Arlington Blvd., Falls Church, Virginia 22042 (escort required; see guidance in SUPPLEMENTARY INFORMATION, “Public's Accessibility to the Meeting”).

FOR FURTHER INFORMATION CONTACT: The Director of the Defense Health Board is Ms. Christine Bader, 7700 Arlington Boulevard, Suite 5101, Falls Church, Virginia 22042, (703) 681-6653, Fax: (703) 681-9539, Christine.bader@dha.mil. For meeting information, please contact Ms. Kendal Brown, 7700 Arlington Boulevard, Suite 5101, Falls Church, Virginia 22042, Kendal.Brown.ctr@dha.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR § 102-3.150, and in accordance with section 10(a)(2) of the Federal Advisory Committee Act.

Additional information, including the agenda and electronic registration, is available at the DHB Web site, http://www.health.mil/About-MHS/Defense-Health-Board.

Purpose of the Meeting

The purpose of the meeting is to receive briefings from external organizations on such topics as Pain Management and Advances in Trauma Care and for the Subcommittees to provide decision briefs or progress updates on the status of their individual taskings before the DHB.

Agenda

Pursuant to 5 U.S.C. 552b, as amended, and 41 CFR § 102-3.140 through 102-3.165 and subject to availability of space, the DHB meeting is open to the public from 8:45 a.m. to 11:45 a.m. and 12:45 p.m. to 5:15 p.m. on August 11, 2014. The DHB will receive briefings on Pain Management and Advances in Trauma Care in addition to decision briefings from the Trauma and Injury Subcommittee and tentatively the Public Health Subcommittee for deliberation. Additionally, the DHB will receive briefings on the progress being made by the subcommittees on dual loyalties of military medical providers, the sustainment and advancement of amputee care, and continuing health education.

Public's Accessibility to the Meeting

Pursuant to 5 U.S.C. 552b, as amended, and 41 CFR § 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Monday, August 4, 2014 to register and make arrangements for a DHHQ escort, if necessary. Public attendees requiring escort should arrive at the DHHQ Visitor's Entrance with sufficient time to complete security screening no later than 8:15 a.m. on August 11. To complete security screening, please come prepared to present two forms of identification and one must be a picture identification card.

Special Accommodations

Individuals requiring special accommodations to access the public meeting should contact Ms. Kendal Brown at least five (5) business days prior to the meeting so that appropriate arrangements can be made.

Written Statements

Any member of the public wishing to provide comments to the DHB may do so in accordance with 41 CFR 102-3.140 and section 10(a)(3) of the Federal Advisory Committee Act, and the procedures described in this notice.

Individuals desiring to provide comments to the DHB may do so by submitting a written statement to the DHB Designated Federal Officer (DFO) (see FOR FURTHER INFORMATION CONTACT). Written statements should address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: July 21, 2014.
Aaron Siegel,
Alternate OSD Federal Register Liaison Officer, Department of Defense.

[FR Doc. 2014-17440 Filed 7-23-14; 8:45 am]

BILLING CODE 5001-06-P